NATIONAL FOUNDATION ON THE ARTS AND HUMANITIES

Cooperative Agreement for a Feasibility Study for the Creation of Loan Funds or Loan Guarantees for Nonprofit Arts Organizations

AGENCY: National Endowment for the Arts.

ACTION: Notification of availability.

SUMMARY: The National Endowment for the Arts is requesting proposals leading to one (1) award of a Cooperative Agreement to conduct a Study of the Feasibility for the Creation of Loan Funds for Nonprofit Arts Organizations. The study will include a quantitative and descriptive analysis of loan funds for arts organizations as well as the guarantee of loans made to non-profit arts organizations; the identification and analysis of the obstacles and opportunities for such financing mechanisms; and the feasibility of new structures or the adaptation of existing structures for such purposes. The recipient of the Cooperative Agreement will also determine the appropriate amount of the fund corpus needed and estimate the associated administrative costs. Completion of the study is contemplated in six months. Those interested in receiving the Solicitation package should reference Program Solicitation PS 01-01 in their written request and include two (2) self-addressed labels. Verbal requests for the Solicitation will not be honored. It is anticipated that the Program Solicitation will also be posted on the Endowment's Web site at http://www.arts.gov.

DATES: Programs Solicitation PS 01-01 is scheduled for release approximately December 28, 2000 with proposals due on January 29, 2001.

ADDRESSES: Requests for the Solicitation should be addressed to the National Endowment for the Arts, Grants & Contracts Office, Room 618, 1100 Pennsylvania Ave., NW, Washington, DC 20506.

FOR FURTHER INFORMATION CONTACT: William Hummel, Grants & Contracts Office, National Endowment for the Arts, Room 618, 1100 Pennsylvania Ave., NW, Washington, DC 20506 (202/682-5482).

William I. Hummel,
Coordinator, Cooperative Agreements.

[FR Doc. 00-30511 Filed 11-29-00; 8:45 am]

BILLING CODE 7537-01-M